DEPARTMENT OF TRANSPORTATION

Federal Aviation Administration

14 CFR Part 39

[Docket No. FAA-2006-26400; Directorate Identifier 2006-CE-71-AD; Amendment 39-14948; AD 2006-25-08]

RIN 2120-AA64

Airworthiness Directives; Columbia Aircraft Manufacturing Models LC41-550FG and LC42-550FG Airplanes

AGENCY: Federal Aviation Administration (FAA), DOT.

ACTION: Final rule; request for comments.

SUMMARY: The FAA is adopting a new Airworthiness Directive (AD) for all Columbia Aircraft Manufacturing (previously The Lancair Company) Models LC41-550FG and LC42-550FG airplanes equipped with Kelly Aerospace Thermal Systems Supplemental Type Certificate (STC) SA02260CH, Thermawing Deice System (also known as E-Vade). This AD requires you to deactivate the deice system and install a placard in clear view of the pilot. This AD results from problems with the installation of the Kelly Aerospace Thermal Systems Thermawing Deice System following STC SA02260CH. We are issuing this AD to prevent a short circuit condition at the deice heater connector, which could result in damage to the wings and horizontal stabilizer. This damage could lead to reduced structural integrity of the airplane.

DATES: This AD becomes effective on December 21, 2006.

As of December 21, 2006, the Director of the Federal Register approved the incorporation by reference of certain publications listed in the regulation.

We must receive any comments on this AD by February 9, 2007.

ADDRESSES: Use one of the following addresses to comment on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

To get the service information identified in this AD, contact Kelly Aerospace Thermal Systems, 1625 Lost Nation Road, Willoughby, Ohio 44094; telephone: (440) 951-4744; fax: (440) 951-4725.

To view the comments to this AD, go to http://dms.dot.gov. The docket number is FAA-2006-26400; Directorate Identifier 2006-CE-71-AD.

FOR FURTHER INFORMATION CONTACT: Roy Boffo, Aerospace Engineer, FAA, Chicago Aircraft Certification Office, 2300 E. Devon Avenue, Room 107, Des Plaines, IL 60018; telephone: (847) 294-7564; fax: (847) 294-7834.

SUPPLEMENTARY INFORMATION:

Discussion

We received reports of problems with the installation of the Kelly Aerospace Thermal Systems Thermawing Deice System (also known as E-Vade) on Columbia Aircraft Manufacturing Models LC41-550FG and LC42-550FG airplanes following Supplemental Type Certificate (STC) SA02260CH.

A short circuit condition at the deice heater connector to the copper mesh material imbedded in the composite airplane structure (for lightning protection) caused burning of the wings and horizontal stabilizer, which created holes in the structure.

The short circuit was caused by insufficient removal of copper mesh when the deice heater connectors were installed.

This condition, if not corrected, could cause damage to the wings and horizontal stabilizer resulting in reduced structural integrity of the airplane.

Relevant Service Information

We reviewed Kelly Aerospace Thermal Systems Service Letter Bulletin No. SL-06-001, Issue Date: November 15, 2006. The service information describes procedures for disabling the E-Vade system.

FAA's Determination and Requirements of This AD

We are issuing this AD because we evaluated all the information and determined the unsafe condition described previously is likely to exist or develop on other products of the same type design. This AD requires disabling the E-Vade system and installing a placard in clear view of the pilot.

In preparing this rule, we contacted type clubs and aircraft operators to get technical information and information on operational and economic impacts. We did not receive any information through these contacts. If received, we would have included a discussion of any information that may have influenced this action in the rulemaking docket.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2006-26400; Directorate Identifier 2006-CE-71-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2006-25-08 Columbia Aircraft Manufacturing (Previously the Lancair Company): Amendment 39-14948; Docket No. FAA-2006-26400; Directorate Identifier 2006-CE-71-AD.

Effective Date

(a) This AD becomes effective on December 21, 2006.

Affected ADs

(b) None.

Applicability

(c) This AD applies to Models LC41-550FG and LC42-550FG airplanes, all serial numbers equipped with Kelly Aerospace Thermal Systems Supplemental Type Certificate (STC) SA02260CH, that are certificated in any category.

Unsafe Condition

(d) This AD results from problems with the installation of the Kelly Aerospace Thermawing Deice System (also known as E-Vade) following STC SA02260CH. We are issuing this AD to prevent a short circuit condition at the deice heater connector, which could result in damage to the wings and horizontal stabilizer. This damage could lead to reduced structural integrity of the airplane.

Compliance

(e) To address this problem, you must do the following, unless already done:

Actions | Compliance | Procedures
(1) Deactivate the Kelly Aerospace Thermal Systems Thermawing Deice System installed following STC SA02260CH | Before further flight after December 21, 2006 (the effective date of this AD) | Follow Kelly Aerospace Thermal Systems Service Letter Bulletin No. SL-06-001, Issue Date: November 15, 2006.
(2) Fabricate a placard that incorporates the following words (using at least ¼-inch black letter on a white background) and install this placard in clear view of the pilot.“DEICE SYSTEM INOPERABLE” | Before further flight after December 21, 2006 (the effective date of this AD) | The owner/operator holding at least a private pilot certificate as authorized by section 43.7 of the Federal Aviation Regulations (14 CFR 43.7) may fabricate and install the placard. Make an entry into the aircraft records showing compliance with these portions of the AD in accordance with section 43.9 of the Federal Aviation Regulations (14 CFR 43.9).

Alternative Methods of Compliance (AMOCs)

(f) The Manager, Chicago Aircraft Certification Office, FAA, ATTN: Roy Boffo, Aerospace Engineer, 2300 E. Devon Avenue, Room 107, Des Plaines, IL 60018; telephone: (847) 294-7564; fax: (847) 294-7834, has the authority to approve AMOCs for this AD, if requested using the procedures found in 14 CFR 39.19.

Material Incorporated by Reference

(g) You must use Kelly Aerospace Thermal Systems Service Letter Bulletin No. SL-06-001, Issue Date: November 15, 2006, to do the actions required by this AD, unless the AD specifies otherwise.

(1) The Director of the Federal Register approved the incorporation by reference of this service information under 5 U.S.C. 552(a) and 1 CFR part 51.

(2) For service information identified in this AD, contact Kelly Aerospace Thermal Systems, 1625 Lost Nation Road, Willoughby, Ohio 44094; telephone: (440) 951-4744; fax: (440) 951-4725.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on November 29, 2006.
John R. Colomy,
Acting Manager, Small Airplane Directorate, Aircraft Certification Service.

[FR Doc. E6-20860 Filed 12-8-06; 8:45 am]

BILLING CODE 4910-13-P